DEPARTMENT OF HOUSING AND URBAN DEVELOPMENT

[Docket No. FR-4560-C-06]

FY 2000 Super Notice of Funding Availability (SuperNOFA) for HUD's Housing, Community Development and Empowerment Programs and Section 8 Housing Voucher Assistance; Technical Corrections for CDTA EDI, HOPE VI, HOPWA, Housing Counseling, ROSS, Section 202 and Section 811 Programs; and Extension of Application Due Dates for EDI and Two ROSS Initiatives

AGENCY: Office of the Secretary, HUD.

ACTION: Super Notice of Funding Availability (SuperNOFA) for HUD Grant Programs; Technical Correction.

SUMMARY: On February 24, 2000, HUD published its Fiscal Year (FY) 2000 Super Notice of Funding Availability (SuperNOFA) for HUD's Housing, Community Development, and Empowerment Programs and Section 8 Housing Voucher Assistance. This documents makes certain technical corrections to the following programs: Economic Development Initiative (EDI); HOPE VI; Housing Counseling; Housing Opportunities for Persons With AIDS (HOPWA); Resident Opportunity and Self-Sufficiency (ROSS); Section 202 Supportive Housing for the Elderly; and Section 811 Supportive Housing for Persons with Disabilities.

This document also extends the application due date for EDI and for two of the ROSS Program initiatives.

DATES: Except for the extension of the application due date for EDI and for two of the ROSS Program initiatives, all application due dates remain as published in the Federal Register on February 24, 2000. The application due date for the Outreach and Training Assistance Grants (OTAG) was extended to May 31, 2000, by notice published in the Federal Register on April 24, 2000.

FOR FURTHER INFORMATION CONTACT: For the Programs listed in this notice, please contact the office or individual listed in the “For Further Information” heading in the individual program section of the SuperNOFA, published on February 24, 2000.

SUPPLEMENTARY INFORMATION: On February 24, 2000 (65 FR 9322), HUD published its Fiscal Year (FY) 2000 Super Notice of Funding Availability (SuperNOFA) for HUD's Housing, Community Development, and Empowerment Programs and Section 8 Housing Voucher Assistance. The FY 2000 SuperNOFA announced the availability of approximately $2.424 billion in HUD program funds covering 39 grant categories within programs operated and administered by HUD offices and Section 8 housing voucher assistance.

This notice published in today's Federal Register makes certain corrections and clarifications to the funding availability announcements of the following programs: Community Development Technical Assistance (CDTA); Economic Development Initiative (EDI); HOPE VI Revitalization and Demolition; Housing Counseling; Housing Opportunities for Persons With AIDS (HOPWA); Resident Opportunity and Self-Sufficiency (ROSS); Section 202 Supportive Housing for the Elderly; and Section 811 Supportive Housing for Persons with Disabilities.

II. Technical Corrections

A summary of the technical corrections that will be made by this document are as follows. The page numbering shown in bracket identifies where the individual funding availability announcement that is being corrected can be found in the February 24, 2000 SuperNOFA, and the page numbering in parentheses identifies where the specific language that is being corrected can be found in the published SuperNOFA.

Community Development Technical Assistance (CDTA) [Page 9389]

HUD revises the first paragraph of Section VI (Application Submission Requirements) to correct the list of application submission requirements for the Housing Opportunities for Persons With AIDS (HOPWA) Technical Assistance component of this funding. The Budget Summary, described in Section VI.(H), applies to HOPWA and was inadvertently included in the list of items not applicable to HOPWA. (See page 9397, first column at top)

Economic Development Initiative (EDI) [Page 9789]

This notice extends the application due date for EDI from May 24, 2000, to June 13, 2000.

HUD is removing the limitation or “cap” on the maximum EDI award for a single regional economic development project application. (See page 9793, second column.) Due to their potentially larger size and regional impact, HUD determined that market conditions and the regional economic development project proposed should determine the appropriate amount of an award for a single regional economic development project application. Therefore, HUD will not apply a specific cap on the size of an award for a single regional economic development project application. However, the cap on the maximum EDI award for each general economic development project application remains. In addition, the overall limitation on awards for all regional economic development project applications approved under the FY 2000 SuperNOFA remains the same at $10,000,000.

In addition to this change, HUD corrects certain incorrect cites in the EDI funding availability announcement. On page 9790, in the first column, in the first full paragraph, the references to Section IV.(D) and Section VI.(D)(2) should be Section VI.

On page 9793, in the third column, numbered paragraph (4), the reference to Section IV.(E)(1) should be Section IV.(F)(1).

On page 9794, second and third column, the reference to Section V.(A)(4) in these columns should be Section IV(F) and Section V.(A)(3).

HOPE VI Revitalization and Demolition Program [Page 9599]

HUD revises the second sentence of paragraph (e) of Section III.(C)(1) which addresses the appropriate replacement homeownership assistance to clarify that the conditions for this assistance are limited to the following (1) HUD's approval of a homeownership proposal under section 24(d)(1)(J) of the Act; and (2) the 80 percent of area median income limitations. (See page 9601, third column.) HUD also corrects the statutory cite in Section VII.(A)(1)(b). The correct cite is section 537(c), not section 537(b). (See page 9618, second column.) Additionally, HUD revises Section IV(D)(1)(b) to clarify the matching requirement for HOPE VI grant funds used for community and supportive services.

Housing Counseling [Page 9519]

HUD further addresses the post-award process under Section II (Amount Allocated) by describing the award instrument to be executed by grantees and accompanying documentation. A new paragraph (4) is added to this section.

Housing Opportunities for Persons With AIDS (HOPWA) [Page 9867]

HUD corrects the chart in Appendix A that addresses “Non-Eligible Areas” found on page 9880. For the State of Maryland, the chart should read: State of Maryland (outside of Baltimore, Washington DC, and Wilmington, EMSA). For the State of New Hampshire, the chart should read: State of New Hampshire (outside of Boston, EMSA). HUD also corrects the HOPWA Project Budget Form in Appendix C (page 9891) to remind applicants that the requirements of section 3 of the Housing and Urban Development Act of 1968 (12 U.S.C. 1701u) apply to housing rehabilitation, repair and conversion activities over $200,000.

Resident Opportunity and Self-Sufficiency (ROSS) [Page 9697]

HUD extends the application due date for the Capacity Building or Conflict Resolution and Resident Service Delivery Models initiatives to June 15, 2000.

The provision on “Ineligible Activities,” paragraph (3) of Section III.(D)(3) (see page 9702, middle column) contains an incorrect cross-reference to Section III.(C)(7). The correct reference is to Section III.(C)(4).

Under the program description and listing of eligible activities for the Resident Service Delivery Model, HUD inadvertently omitted the paragraph on eligible administrative expenses that appears in the other initiatives. This provision is added as a new paragraph (h) on page 9704, first column, right before paragraph (5) on “Ineligible Activities.”

In Section VI.(A) which addresses application submission requirements for all applicants, HUD clarifies that for Service Coordinator renewal grantees, they are not required to submit the ROSS Fact Sheet or ROSS Program Summary. (See page 9708, second column.)

In Section VI.(B) (Application Submission Requirements for RMBD Applications) to remove the last sentence of paragraph (B)(2) that states that submission of a memorandum of understanding (MOU) is not required as part of the application submission. (See page 9709, first column at top). This document is required to be submitted with the RMBD application, as stated earlier in the paragraph.

Section 202 Supportive Housing for the Elderly [Page 9901]

In Section V.(C), HUD corrects the order in which selection will be made out of the national residual funds. (See page 9908, third column, last paragraph before Section V.(D).) This correction is necessary because the national residual funds will be used first to fund two projects not funded in FY 1999 due to HUD error instead of to first restore units cut by the Multifamily Program Centers and Multifamily Hubs in order for them to fund the projects out of their FY 2000 Section 202 allocation. Additionally, the notice corrects an inaccurate definition of minority neighborhood. Since applications are to be rated on the suitability of sites from the standpoints of promoting a greater choice of housing opportunities for minority elderly persons/families and affirmatively furthering fair housing, it is important for sponsors to be able to accurately identify neighborhoods. (See page 9909, third column.)

Section 811 Supportive Housing for Persons With Disabilities [Page 9929]

As with the Section 202 Program, HUD corrects an inaccurate definition of minority neighborhood. (See page 9938, first column.) Under this program, since applications are to be rated on the suitability of sites from the standpoints of promoting a greater choice of housing opportunities for minority persons with disabilities and affirmatively furthering fair housing, it is important for sponsors to be able to accurately identify neighborhoods. Additionally, HUD corrects the address and telephone number of the Atlanta Multifamily Hub. The address was printed incorrectly in the Appendix A of the Section 811 Program. (See page 9944.)

Accordingly, in the Super Notice of Funding Availability for Housing, Community Development, and Empowerment Programs and Section 8 Housing Voucher Assistance for Fiscal Year 2000, notice document 00-4123, beginning at 65 FR 9322, in the issue of Friday, February 24, 2000, the following corrections are made:

1. Community Development Technical Assistance (CDTA) Section, Beginning at 65 FR 9389

• On page 9396, third column, continuing on page 9397, first column, the first paragraph of Section VI (Application Submission Requirements) is corrected to read as follows:

In addition to the forms, certifications and assurances listed in Section II(G) of the General Section of the SuperNOFA (collectively referred to as the “standard forms”), your application must, at a minimum, contain the following items (except that the following paragraphs (C), (D), (E), (F), and (G) do not apply to HOPWA TA applicants). The standard forms can be found in Appendix B to the General Section of the SuperNOFA. The remaining forms can be found as Appendix B to this CD-TA program section of the SuperNOFA.

2. Economic Development Initiative (EDI) Section, Beginning at 65 FR 9789

• On page 9789, in the first column, under “Program Overview,” corrects the paragraph on “Application Deadline” to read as follows:

Application Deadline. June 13, 2000.

• On page 9789, in the first column, under Section I, HUD corrects the first paragraph titled “Application Due Date to read as follows:

Application Due Date. Please submit your completed applications (one original and two copies) on or before 12:00 midnight, Eastern time, on June 13, 2000, to the addresses shown below. In your transmittal letter, please indicate whether you are applying for funding as a general economic development project or a regional economic development project.

• On page 9790, first column, HUD corrects the first six sentences of the first full paragraph in this column to read as follows:

One application shall be submitted for each regional economic development project which must consist of two parts: Part I, Lead Applicant's Submission, must include a Cooperative Agreement which stipulates a workplan for the regional economic development project. The Cooperative Agreement must be executed by the chief executives of the participating jurisdictions. The Cooperative Agreement workplan must indicate the overall purpose, objectives and accomplishments expected from carrying out the project. Your application shall also include the Standard Form 424, the required certifications signed by the lead applicant, and other materials as described in Section VI of this program section of this SuperNOFA. The lead applicant shall be responsible for coordinating actions of the workplan with respect to timing and scheduling. Part II of the application, Participating Members' Plans, shall contain discrete EDI and Section 108 loan guarantee requests by each participating member identifying activities to be financed by the jurisdiction with grant funds and guaranteed loan proceeds and shall meet the other requirements described more fully in Section VI. * * *

• On page 9793, second column, HUD corrects paragraph (2) in Section IV.(F) to read as follows:

(2) HUD will cap EDI awards at a maximum of $2 million for general economic development projects. Any application in excess of $1 million may be reduced below the amount requested by the applicant if HUD determines that such a reduction is appropriate.

• On page 9793, third column, HUD corrects numbered paragraph (4) to read as follows:

(4) In the event you are awarded an EDI grant that has been reduced below the original request (e.g. the application contained some activities that were ineligible or there were insufficient funds to fund the last competitive application at the full amount requested or there were technical deficiencies that could not be resolved), you will be required to modify your project plans and application to conform to the terms of HUD's approval before HUD will execute a grant agreement. HUD also will proportionately reduce or deobligate the EDI award if you do not submit approvable Section 108 loan guarantee applications on a timely basis (including any extension authorized by HUD) in the amount required by the EDI/108 leveraging ratio which will be approved by HUD as a special condition of the EDI grant award (see Section IV.(F)(1) above of this program section of the SuperNOFA). Any modifications or amendments to your application approved pursuant to this SuperNOFA, whether requested by you or by HUD, must be within the scope of the approved original EDI application in all respects material to rating the application, unless HUD determines that the revised application remains within the competitive range and is otherwise approvable under this SuperNOFA competition.

• On page 9794, in the second column, under Section V.(A)(2), numbered paragraph (a) is corrected to read as follows:

(a) All acceptable EDI grant applications for general economic development projects will be separately ranked in order of points assigned with the applications receiving more points ranking above those receiving fewer points. Acceptable economic development applications must meet the threshold requirements stipulated in the General Section of this SuperNOFA and be complete as required by the Submission requirements of this program section of this SuperNOFA. General economic development projects will be funded in rank order until the total aggregate amount of the applications funded is equal to up to $14.1 million (subject to the Department's discretion described in Section IV.(F) and Section V.(A)(3)).

• On page 9794, at the bottom of the second column and continuing to the third column, the second full paragraph under Section V.(A)(2)(b) is corrected to read as follows:

Economic development projects may include projects where the participating partners invest in one project with each participating partner's role (e.g. funding, planning) being explained to demonstrate how the activity is both necessary to further the regional objectives while accruing reasonable benefits to residents of the partner's jurisdiction. An economic development project might also include projects carried out within the boundaries of each participating member's jurisdiction where the effect of carrying out the project activities in multiple jurisdictions will create a regional synergy that will cause a reduction to or elimination of the regional problem or condition (e.g., high poverty levels, high unemployment). The workplan must describe such jurisdictional efforts and the extent to which their combined efforts accomplish the objectives of the regional economic development project. Regional economic development projects will be funded in rank order until the total aggregate amount of the applications funded is equal to up to $10 million (subject to the Department's discretion described in Section IV.(F) and Section V.(A)(3);

3. HOPE VI Revitalization and Demolition Program Section, Beginning at 65 FR 9599

• On page 9601, third column, the introductory paragraph of paragraph (e) in Section III.(C)(1) is corrected to read as follows:

(e) Appropriate replacement homeownership assistance for displaced public housing residents or other low-income families. Subject to HUD's approval of a homeownership proposal under section 24(d)(1)(J) of the Act, and a family's meeting the 80 percent of Area Median Income (AMI) low-income family limitations under the 1937 Act, assistance may include: * * *

• On page 9606, Section IV(D)(1)(b) is corrected to read as follows:

(b) Additional Community and Supportive Services Match. In addition to supplemental amounts provided in accordance with subparagraph (a) above, if you are selected for funding and propose to use more than 5 percent of your HOPE VI grant for community and supportive services (you may use up to 15 percent of your grant for such services), you must certify that you will provide supplemental funds from sources other than HOPE VI in an amount equal to the difference between 5 percent of the HOPE VI grant and the amount used for community and supportive services. You will make this certification by signing the HOPE VI Revitalization Applicant Certifications. The certification form is included in Part V of the HOPE VI Application Kit, and the text of the certifications is included as Appendix A to this HOPE VI section of the SuperNOFA, below.

• On page 9618, second column, the introductory paragraph of paragraph (b) in Section VII.(A) is corrected to read as follows:

(b) Priority Group 2: A HOPE VI Demolition grant application that targets units included in a Conversion Plan that you have submitted to HUD on or before the HOPE VI Demolition grant application deadline date, or targets units that, at HUD's sole determination under section 537(c) of the Public Housing Reform Act of 1998, are subject to the removal requirements of 24 CFR part 971 and can be expected to be demolished in accordance with the time schedule required by Section IV(F)(1) of this HOPE VI section of the SuperNOFA, above. * * *

4. Housing Counseling Section, Beginning at 65 FR 9519

On page 9529, second column, a new paragraph (4) is added after paragraph (3) to read as follows:

(4) Award Instrument. All Housing Counseling Program awards shall be made on a cost reimbursement basis in accordance with the requirements in OMB Circulars A-87, Cost Principles for State and Local Governments and Indian Tribal Governments; and OMB Circular A-122, Cost Principles for Non-Profit Organizations, as applicable to your organization; and the administrative requirements established in OMB Circular A-102, which was implemented by 24 CFR part 85 (Administrative Requirements for Grants and Cooperative Agreements to State and Local Governments and Indian Tribal Governments; OMB Circular A-110, which was implemented by 24 CFR part 84 (Grants and Agreements with Institutions of Higher Education, Hospitals and Other Non-Profit Organizations); and OMB Circular A-133 which was implemented by 24 CFR parts 84 and 85). If you receive an award you are also required to ensure that any sub-recipients also comply with the requirements in these circulars.

After selection, but prior to award of funds you will be required to submit to HUD either:

(a) A copy of your most recent audit conducted by the cognizant Federal agency or a Independent Public Accountant which states that: (i) Your financial accounting system meets the federal requirements for fund control and accountability as required by these OMB Circulars and (ii) establishes an indirect cost rate for your organization; or

(b) A certification from an Independent Public Accountant or the cognizant Federal agency government auditor, stating that (i) your financial accounting system meets the federal requirements for fund control and accountability as required by these OMB Circulars and (ii) establishes an indirect cost rate for your organization.

Your submission should include the name and telephone number of the Independent Auditor or the cognizant Federal Auditor. HUD cannot award funds to an organization unless its financial management system meets Federal requirements for funds control and accountability.

If your organization does not have an established indirect cost rate, you will be required to develop and submit an indirect cost proposal to HUD or the cognizant Federal Agency as applicable, for determination of an indirect cost rate which will govern your award. Funds will not be awarded until the determination of the Indirect Cost Rate.

5. Housing Opportunities for Persons With AIDS (HOPWA) Section, Beginning at 65 FR 9867

• On page 9880, the chart shown on Appendix for “Non-Eligible Areas” is corrected to read as follows for the States of Maryland and New Hampshire (the information concerning the other states is correct).

State | NON-eligible areas
MD | State of Maryland (outside of Baltimore, Washington, DC, and Wilmington, EMSA
NH | State of New Hampshire (outside of Boston, EMSA).

• On page 9891, the second row of the HOPWA Project Budget Form is corrected to read as follows:

Eligible activity | Project funding: A. HOPWA | Project funding: B. Other | Project funding: C. Total
2. Rehabilitation, Repair, and | Conversion* | $ | $

6. Resident Opportunity and Self-Sufficiency (ROSS) Section, Beginning at 65 FR 9697

• On page 9697, in the first column, the Application Deadline in the “Program Overview” section is corrected to read as follows:

Application Deadline. June 15, 2000, for Resident Management and Business Development; June 15, 2000, for Capacity Building or Conflict Resolution;

June 15, 2000, for Resident Service Delivery Models; and

After publication of this SuperNOFA grant renewals will be accepted until all funds are awarded for Service Coordinators.

• On page 9697, in the first column, the first paragraph in Section I that addresses “Application Due Date”, is corrected to read as follows:

Application Due Date. Your completed application (one original and two copies) is due on or before 12:00 midnight, Eastern time, on the following application due dates to HUD Headquarters at the address shown below.

June 15, 2000, for Resident Management and Business Development;

June 15, 2000, for Capacity Building or Conflict Resolution;

June 15, 2000, for Resident Service Delivery Models; and

After publication of this SuperNOFA, grant renewals will be accepted until all funds are awarded for Service Coordinators.

See the General Section of this SuperNOFA for specific procedures governing the form of application submission (e.g., mail application, express mail, overnight delivery, or hand-carried).

• On page 9702, second column, the paragraph designated as paragraph “(3)” on “Ineligible Activities” is corrected to read as follows:

(3) Ineligible Activities. Ineligible activities are the same as those listed in Section III(C)(4) of this program section of the SuperNOFA, above.

• On page 9704, first column, before the paragraph designated as paragraph “(5)” on “Ineligible Activities” a new paragraph (h) is added to read as follows:

(h) Administrative costs. Administrative costs may include, but are not limited to purchase of furniture, office equipment and supplies, quality assurance, travel and utilities. Administrative costs must not exceed 20% of the total grant costs.

• On page 9708, under Section VI (Application Submission Requirements), the last paragraph in the first column that continues into the second column, is corrected to read as follows

All applicants, except for applicants that are Service Coordinator renewal grantees, must include the following information regardless of the category under which they are applying for funds. Service Coordinator renewal grantees are not required to submit items (2) and (3), the ROSS Fact Sheet, and ROSS Program Summary, respectively.

• On page 9708, third column, continuing to page 9709, first column, the second paragraph in Section VI.(B)(2) is corrected to read as follows:

(2) Your application must contain a signed Memorandum of Understanding (MOU) between the RA and PHA which describes the specific roles, responsibilities and activities to be undertaken by all parties to the MOU. Your MOU, at a minimum must identify the principal parties (i.e. the name of the PHA and RA, the terms of agreement), expectations or terms for each party, and indicate that the agreement pertains to the support of your grant application. This document is the basis for the foundation of the relationship between the RA and PHA. The MOU must be precise and outline the specific duties and objectives to be accomplished under the grant. All MOUs must be finalized, dated and signed by duly authorized officials of both the RA and PHA upon submission of the application.

7. Section 202 Supportive Housing for the Elderly (Section 202 Program) Section, Beginning at 65 FR 9901

• On page 9908, in the third column, the last paragraph of Section V.(C) is corrected to read as follows:

Funds remaining after these processes are completed will be returned to Headquarters. HUD will use these funds first to fund Metropolitan Low Income Housing and CDC, Inc., a FY 1999 application in the jurisdiction of the Columbia, SC Multifamily Program Center, and White Sands Manor, a FY 1999 application in the jurisdiction of the Jacksonville, FL Multifamily Hub. These projects were not funded in FY 1999 due to HUD error. Second, HUD will use these funds to restore units to projects reduced by HUD offices as a result of the instructions for using residual funds. Third, HUD will use these funds for selecting applications based on field offices' rankings beginning with the highest rated application nationwide. Only one application will be selected per HUD office from the national residual amount (except for the Columbia, SC Multifamily Program Center and Jacksonville, FL Multifamily Hub which are already receiving additional selections as described above). If there are no approvable applications in other HUD offices, the process will begin with the selection of the next highest rated application nationwide. This process will continue until all approvable applications are selected using the available remaining funds.

• On page 9909, third column, under Rating Factor 3 (Soundness of Approach), the third subparagraph under paragraph (b)(ii) is corrected to read as follows:

—In the case of a metropolitan area, the neighborhood's total percentage of minority persons exceeds 50 percent of its population. The term “nonminority area” is defined as one in which the minority population is lower than 10 percent.

8. Section 811 Supportive Housing for Persons With Disabilities (Section 811 Program) Section, Beginning at 65 FR 9929

• On page 9938, first column, under Rating Factor 3 (Soundness of Approach), the third subparagraph under paragraph (b)(ii) is corrected to read as follows:

— In the case of a metropolitan area, the neighborhood's total percentage of minority persons exceeds 50 percent of its population. The term “nonminority area” is defined as one in which the minority population is lower than 10 percent.

• On page 9944, first column, under Appendix A, the address for the Atlanta Office is corrected to read as follows: Atlanta Office, 40 Marietta Street—Five Points Plaza, Atlanta, GA 30303-2806, (404) 331-5001.

Dated: May 1, 2000.
Saul N. Ramirez, Jr.,
Deputy Secretary.

[FR Doc. 00-11552 Filed 5-8-00; 3:45 pm]

BILLING CODE 4210-32-P